NATIONAL SCIENCE FOUNDATION

Comment Request: Innovative Technology Experiences for Students and Teachers (ITEST) Program

AGENCY: National Science Foundation.

ACTION: Notice.

SUMMARY: The National Science Foundation (NSF) is announcing plans to request clearance of this collection. In accordance with the requirement of Section 3506(c)(2)(A) of the Paperwork Reduction Act of 1995, we are providing opportunity for public comment on this action.

After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by March 25, 2011 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: Innovative Technology Experiences for Students and Teachers (ITEST) Program.

Evaluation for the National Science Foundation

OMB Number: 3145-NEW.

Expiration Date of Approval: Not applicable.

Type of request: Initial Clearance.

Abstract

Innovative Technology Experiences for Students and Teachers (ITEST) is a National Science Foundation program that responds to current concerns and projections about the growing demand for professionals and information technology workers in the U.S. and seeks solutions to help ensure the breadth and depth of the STEM workforce. Information technologies are integral to both the workplace and everyday activities of most Americans. They are part of how people learn, how they interact with each other and information, and how they represent and understand their world. Attaining a basic understanding of these technologies and mastery of essential technical skills is a requirement for anyone to benefit from innovation in the modern world. The technological growth of the nation depends on a technologically literate citizenry. ITEST is designed to increase the opportunities for students and teachers to learn about, experience, and use information technologies within the context of science, technology, engineering, and mathematics (STEM), including Information Technology (IT) courses. Supported projects are intended to provide opportunities for K-12 children and teachers to build the skills and knowledge needed to advance their study, and to function and to contribute in a technologically rich society. Additionally, exposure to engaging applications of IT is a means to stimulate student interest in the field and an important precursor to the academic preparation needed to pursue IT careers.

The ITEST program evaluation will characterize the variety of ITEST projects, measure the rigor of individual project evaluations, estimate outcomes for students and teachers involved in a sample of projects, and identify exemplary project models. In order to accomplish these tasks, the ITEST program evaluation will employ a mixed-method approach including case studies, quasi-experiments, and extensive document review. This information collection request will include a series of protocols to be used while conducting site visit interviews, a list of documents to be requested during visits, and a student-survey instrument to measure project outcomes.

Estimate of Burden

Respondents: Individuals.

Frequency: Annual.

Estimated Number of Respondents: 1,402.

Estimated Burden Hours on Respondents: 1,052 hours.

Dated: January 19, 2011.
Suzanne H. Plimpton,
Reports Clearance Officer, National Science Foundation.

[FR Doc. 2011-1373 Filed 1-21-11; 8:45 am]

BILLING CODE 7555-01-P